CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, William H. Ward, at (202) 606-5000, extension 375. Individuals who use a telecommunications device for the deaf (TTY-TDD) may call (800) 833-3722 between the hours of 9:00 a.m. and 5:00 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description: AmeriCorps Education Award Utilization Survey.

One of the goals of the AmeriCorps program is furthering the educational opportunities of its members. The AmeriCorps Education Award provides up to $4,725 to help a member pay for further education or to repay student loans. Part-time members get a pro-rated portion of that amount. (42 U.S.C. 12601 et seq.) The Corporation's National Service Trust data showed that about half of the AmeriCorps graduates who have earned Education Awards had begun to use them. Through the proposed study, the Corporation seeks to identify reasons for non-use of Education Awards. In addition, a thorough exploration of trends in non-use and reasons for non-use will identify ways in which the Corporation can meaningfully increase the use of Education Awards, thus furthering educational opportunity. The Corporation seeks to conduct a survey of former members of the AmeriCorps*State and National, AmeriCorps*VISTA and AmeriCorps*NCCC programs. This survey will entail telephone interviews of approximately 30 minutes in length with 1,000 former AmeriCorps members. It will identify trends in and reasons for non-use of the Educational Awards.

• Type of Review: New collection.

• Agency: Corporation for National and Community Service.

• Title: AmeriCorps Education Award Utilization Survey.

• OMB Number: None.

• Agency Number: None.

• Affected Public: Former AmeriCorps members.

• Total Respondents: 1,000.

• Frequency: One time.

• Average Time Per Response: 30 minutes.

• Estimated Total Burden Hours: 500 hours.

• Total Burden Cost (capital/startup): 0.

• Total Burden Cost (operating/maintenance): 0.

Dated: February 26, 2002.
David Reingold,
Director, Department of Research and Policy Development.

[FR Doc. 02-5131 Filed 3-4-02; 8:45 am]

BILLING CODE 6050-$$-P